DEPARTMENT OF JUSTICE

Notice of Lodging of Proposed Consent Decree Pursuant to the Clean Water Act

Pursuant to 28 CFR 50.7, notice is hereby given that on February 15, 2011, a proposed consent decree in United States v. Eastwood Construction, LLC, et. al, Civil Action No. 3:11-cv-83, was lodged with the United States District Court for the Western District of North Carolina.

The Consent Decree resolves the claims of the United States against Eastwood Construction, LLC and Eastwood Homes, Inc. (collectively “Eastwood Companies”) for violations of the federal Clean Water Act and state permits issued in North Carolina and South Carolina. Under the proposed Consent Decree, the Eastwood Companies will undertake compliance programs consisting of, among other things: inspections, training, and enchanced recordkeeping to reduce the threat of discharges of storm water from its residential construction sites. The Eastwood Companies will also collectively pay to the United States a civil penalty of $60,000.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, D.C. 20044-7611, and should refer to the Consent Decree between the United States and Eastwood Construction, LLC and Eastwood Homes, Inc., DOJ Ref. No. 90-5-1-1-08694.

The Decree may be examined at EPA's Region 4 office, 61 Forsyth Street, Atlanta, Georgia and at the office of the United States Attorney for the Western District of North Carolina, Carillon Building, 227 W. Trade Street, Suite 1650, Charlotte, NC 28202. During the public comment period, the Consent Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $20.25 (25 cents per page reproduction cost) (including Appendices) or $12.25.00 (excluding Appendices) payable to the U.S. Treasury or, if by e-mail or fax, forward a check in that amount to the Consent Decree Library at the stated address.

Maureen Katz,
Assistant Section Chief, Environmental Enforcement Section Environment and Natural Resources Division.

[FR Doc. 2011-4077 Filed 2-23-11; 8:45 am]

BILLING CODE 4410-15-P